DEPARTMENT OF HOMELAND SECURITY

Federal Emergency Management Agency

Notice of Adjustment of Statewide Per Capita Impact Indicator

AGENCY: Federal Emergency Management Agency, Emergency Preparedness and Response Directorate, Department of Homeland Security.

ACTION: Notice.

SUMMARY: FEMA gives notice that the statewide per capita impact indicator under the Public Assistance program for disasters declared on or after October 1, 2004 will be increased.

DATES: Effective October 1, 2004 and applies to major disasters declared on or after October 1, 2004.

FOR FURTHER INFORMATION CONTACT: James A. Walke, Recovery Division, Federal Emergency Management Agency, Washington, DC 20472, and (202) 646-3834.

SUPPLEMENTARY INFORMATION: 44 CFR 206.48 provides that FEMA will adjust the statewide per capita impact indicator under the Public Assistance program to reflect changes in the Consumer Price Index for All Urban Consumers published by the Department of Labor.

FEMA gives notice that the statewide per capita impact indicator will be increased to $1.14 for all disasters declared on or after October 1, 2004.

FEMA bases the adjustment on an increase in the Consumer Price Index for All Urban Consumers of 2.7 percent for the 12-month period ended in August 2004. The Bureau of Labor Statistics of the U.S. Department of Labor released the information on September 16, 2004.

(Catalog of Federal Domestic Assistance No. 97.036, Public Assistance Grants)

Michael D. Brown,
Under Secretary, Emergency Preparedness and Response, Department of Homeland Security.

[FR Doc. 04-23318 Filed 10-18-04; 8:45 am]

BILLING CODE 9110-10-P